DEPARTMENT OF STATE

22 CFR Part 62

RIN 1400-AC35

[Public Notice 5797]

Exchange Visitor Program—College and University Students, Student Interns

AGENCY: Department of State.

ACTION: Proposed rule with request for comments.

SUMMARY: The Department is hereby proposing to revise its regulations concerning College and University Students. The proposed Rule, if adopted, will create a new subcategory of the College and University Student category—“Student Interns”. Participation in this new sub-category is open to foreign students enrolled and pursuing full-time studies at a post-secondary educational institution outside the United States. Student interns may participate in a student internship program for up to 12 months at each degree level.

DATES: The Department will accept comments on the proposed regulation from the public up to August 6, 2007.

ADDRESSES: You may submit comments identified by any of the following methods:

• Persons with access to the Internet may also view this notice and provide comments by going to the regulations.gov Web site at: http://www.regulations.gov/index.cfm.

• Mail (paper, disk, or CD-ROM submissions): U.S. Department of State, Office of Exchange Coordination and Designation, SA-44, 301 4th Street, SW., Room 734, Washington, DC 20547

• E-mail: jexchanges@state.gov. You must include the RIN (1400-xxxx) in the subject line of your message.

FOR FURTHER INFORMATION CONTACT: Stanley S. Colvin, Director, Office of Exchange Coordination and Designation, U.S. Department of State, SA-44, 301 4th Street, SW., Room 734, Washington, DC 20547; or e-mail at jexchanges@state.gov.

SUPPLEMENTARY INFORMATION: The Department of State (Department) designates U.S. government, academic and private sector entities to conduct educational and cultural exchange programs pursuant to a broad grant of authority provided by the Mutual Educational and Cultural Exchange Act of 1961, as amended (Fulbright-Hays Act). Under this authority, designated program sponsors facilitate the entry into the United States of more than 300,000 exchange participants each year.

The former United States Information Agency (USIA) and, as of October 1, 1999, its successor, the Department, have promulgated regulations governing the Exchange Visitor Program that are set forth at 22 CFR 62. Regulations governing exchange visitor college and university students appear at 22 CFR 62.23.

The Department plans to publish an Interim Final Rule relating to exchange visitor trainees and interns (see 22 CFR 62.22). This Interim Final Rule creates a new exchange visitor category—the Intern—for private sector organizations sponsoring individuals who are currently enrolled in and pursuing studies at a degree- or certificate-granting post-secondary academic institution outside the United States or have graduated from such an institution no more than 12 months prior to his/her exchange visitor program begin date, and who enters the United States to participate in a structured and guided work-based internship program in his/her specific academic field.

This Proposed Rule is promulgated to make the use of a similar intern category available to American college and university Exchange Visitor Program designated sponsors. Generally speaking, the proposed regulations governing the new student intern category track the internship regulations applicable to training program sponsors.

The new student intern sub-category is available to foreign students enrolled in accredited post-secondary educational institutions outside the United States. Student interns may participate in a student internship program for up to 12 months at each degree level. For example, if a student comes to the United States to participate in a student internship program at the equivalent of a baccalaureate program, he/she could remain in the United States for up to 12 months. The same individual would be permitted another student internship program up to 12 months at the next higher degree level, such as a masters degree program, or students changing majors and obtaining a new degree.

Selection criteria for the new student intern sub-category must include the following requirements: The student must be accepted to participate in an internship by the post-secondary educational institution listed as the sponsor on his or her Form DS-2019 and is primarily in the United States to engage in a student internship program rather than to engage in employment or provide services to an employer; the student intern must be in good academic standing with the post-secondary educational institution in which he or she is enrolled and currently participating outside the United States; and the student intern will return to the academic program in the home educational institution abroad after completion of the student internship program which is required to fulfill a degree requirement.

The new regulations outline provisions for dealing with the sponsor's obligations and any third parties—either domestic or overseas—with whom sponsors contract to assist them in recruiting, selecting, screening, orienting, placing, training, or evaluating foreign nationals who participate in student internship programs. The regulations require sponsors to enter into a written agreement with third parties outlining the full relationship between the parties on all matters involving the Exchange Visitor Program. Third parties must provide a Dun & Bradstreet identification number. At the recommendation of exchange community comments, the Department is also changing its Regulations to require sponsors to screen and vet all third parties.

A wide range of U.S. businesses and governmental or non-governmental entities host foreign students in student internship programs on behalf of designated sponsors. These regulations set baseline standards to which sponsors are required to adhere to ensure that such host organizations are legitimate entities, are appropriately registered or licensed to conduct their activities in their jurisdiction, and possess and maintain the ability and resources to provide structured and guided work-based experience according to individualized Training and Internship Placement Plans (T/IPP—Form DS-7002). In some instances, sponsors will also be required to conduct a site visit of the host organization's location. The goal of the sponsor in vetting host organizations is to collect sufficient evidence to support a finding that participants are properly placed with host organizations that meet these standards.

In order to participate in the student intern sub-category, designated sponsors must complete and obtain requisite signatures for a T/IPP. The information may be obtained from the intern's dean or academic advisor at the intern's home institution, which sets forth: The goals and objectives of the internship; a description of the student internship program (location; contact information; number of hours per week of work and compensation therefore, if any; a description of the supervision the intern will receive; and the dates of the student internship program); a description of how the student internship program will enhance the student intern's educational program in the home institution; a determination as to whether and to what extent the student intern has previously taken part in a student internship program in the United States; and, finally, a determination whether all the criteria and program requirements of the new regulation are met.

In order to ensure the quality of the internship program, program sponsors must evaluate the effectiveness and appropriateness of the internship program in achieving its stated goals and objectives.

The Proposed Rule, if adopted, will permit student interns to engage in full-time employment during the student internship program as outlined on their T/IPP, with or without wages or other compensation. Employment is not required for participation in the program. In those cases where the student intern is employed, all employment activities must be approved by the home institution's dean or academic advisor, and the responsible officer.

Finally, the regulations prohibit sponsors from placing student interns in unskilled or casual labor positions, in positions that require or involve child care or elder care, positions in the field of aviation, or in any kind of position that involves patient care or contact. Further, sponsors must not place student interns in positions that involve more than 20 per cent clerical work during their programs.

Regulatory Analysis

Administrative Procedure Act

The Department has determined that this Proposed Rule involves a foreign affairs function of the United States and is consequently exempt from the procedures required by 5 U.S.C. 553 pursuant to 5 U.S.C. 553(a)(1). Nonetheless, because of its importance to the public, the Department has elected to solicit comments during a 60-day comment period.

Small Business Regulatory Enforcement Fairness Act of 1996

It has been found not to be a major rule within the meaning of the Small Business Regulatory Enforcement Fairness Act of 1996. It will not have a substantial effect on the States, the relationship between the National Government and the States, or on the distribution of power and responsibilities among the various levels of government. Therefore, it has been determined that the Proposed Rule does not have sufficient federalism implications to warrant application of the consultation provisions of Executive Orders 12372 and 13132.

Regulatory Flexibility Act/Executive Order 13272: Small Business

Since this rulemaking is exempt from 5 U.S.C 553, and no other law requires the Department to give notice of proposed rulemaking, this rulemaking also is not subject to the Regulatory Flexibility Act (5 U.S.C. 601, et seq.) and Executive Order 13272, section 3(b).

Executive Order 12866, as Amended

The Department of State does not consider this Proposed Final Rule to be a “significant regulatory action” under Executive Order 12866, as amended, section 3(f), Regulatory Planning and Review. In addition, the Department is exempt from Executive Order 12866 except to the extent that it is promulgating regulations in conjunction with a domestic agency that are significant regulatory actions. The Department has nevertheless reviewed the Proposed Rule to ensure its consistency with the regulatory philosophy and principles set forth in that Executive Order.

Executive Order 12988

The Department has reviewed this Proposed Rule in light of sections 3(a) and 3(b)(2) of Executive Order 12988 to eliminate ambiguity, minimize litigation, establish clear legal standards, and reduce burden.

Unfunded Mandates Reform Act of 1995

Section 202 of the Unfunded Mandates Reform Act of 1995 (UFMA), Pub. L. 104-4, 109 Stat. 48, 2 U.S.C. 1532, generally requires agencies to prepare a statement before proposing any rule that may result in an annual expenditure of $100 million or more by State, local, or tribal governments, or by the private sector. This rule will not result in any such expenditure, nor will it significantly or uniquely affect small governments.

Executive Orders 12372 and 13132

This regulation will not have substantial direct effects on the States, on the relationship between the national government and the States, or on the distribution of power and responsibilities among the various levels of government. Therefore, in accordance with section 6 of Executive Order 13132, it is determined that this rule does not have sufficient federalism implications to require consultations or warrant the preparation of a federalism summary impact statement. The regulations implementing Executive Order 12372 regarding intergovernmental consultation on Federal programs and activities do not apply to this regulation.

Paperwork Reduction Act

The information collection requirements contained in this rulemaking (Form DS-7002) have been approved by the Office of Management and Budget pursuant to the Paperwork Reduction Act, 44 U.S.C. Chapter 35, under OMB Control Number 1405-0170, expiration date: 07/31/2009.

List of Subjects in 22 CFR Part 62

Cultural exchange programs, Reporting and recordkeeping requirements.

Accordingly, for the reasons stated in the preamble, the Department of State proposes to amend 22 CFR part 62 as follows:

PART 62—EXCHANGE VISITOR PROGRAM

1. The authority citation for part 62 is revised to read as follows:

Authority: 8 U.S.C. 1101(a)(15)(J), 1182, 1184, 1258, 1372, 170101775; 22 U.S.C. 1431-1442, 2451-2460, 6501; 5 U.S.C. app. 1-11 Reorganization Plan No. 2 of 1977, 3 CFR, 1977 Comp. p. 200; E.O. 12048 of March 27, 1978; 3 CFR, 1978 Comp. p. 168.

2. Section 62.2 is amended by adding definitions for “Student Intern” and “Student Intership Program” to read as follows:

§ 62.2 Definitions.

* * * * *

Student Intern means a foreign national who is currently enrolled in and pursuing studies at a degree-or certificate-granting post-secondary academic institution outside the United States and who enters the United States to participate in a structured and guided work-based student internship program in his/her specific academic field for academic credit.

Student Internship Program means a structured and guided work-based learning program as set forth in an individualized Training/Internship Placement Plan (T/IPP) that fulfills a student's academic degree, recognizes the need for work-based experience, provides on-the-job exposure to American techniques, methodologies, and technology, and enhances the student intern's knowledge of American culture and society.

* * * * *

3. Section 62.4 is amended by revising the introductory text and paragraph (a) to read as follows:

§ 62.4 Categories of participant eligibility.

Sponsors may select foreign nationals to participate in their exchange visitor programs. Participation by foreign nationals in an exchange visitor program is limited to individuals who are engaged in the following activities in the United States:

(a) Student. An individual who is:

(1) Studying in the United States:

(i) Pursuing a full course of study at a secondary accredited educational institution;

(ii) Pursuing a full course of study leading to or culminating in the award of a U.S. degree from a post-secondary accredited educational institution; or

(iii) Engaged full-time in a non-degree prescribed course of study of up to 24 months duration conducted by:

(A) A post-secondary accredited educational institution; or

(B) An institute approved by or acceptable to the post-secondary accredited educational institution where the student is to be enrolled upon completion of the non-degree program;

(2) Engaged in academic training as permitted in § 62.23(f); or

(3) Engaged in English language training at:

(i) A post-secondary accredited educational institution, or

(ii) An institute approved by or acceptable to the post-secondary accredited educational institution where the college or university student is to be enrolled upon completion of the language training; or

(4) Engaged full-time in a student internship program conducted by a post-secondary accredited educational institution.

* * * * *

4. Section 62.23 is revised to read as follows:

§ 62.23 College and university students.

(a) Purpose. Programs under this section provide foreign students the opportunity to participate in a designated exchange visitor program while studying at a degree-granting post-secondary accredited educational institution or participating in a student internship program which fulfills the student's academic study. Exchange visitors sponsored in this category may participate in degree, non-degree, or student internship programs. Such exchanges are intended to promote mutual understanding by fostering the exchange of ideas between foreign students and their American counterparts.

(b) Designation. The Department of State may, in its sole discretion, designate bona fide programs which offer foreign nationals the opportunity to study in the United States at post-secondary accredited educational institutions or participate in student internship programs.

(c) Selection criteria. Sponsors select the college and university students who participate in their exchange visitor programs. Sponsors must secure sufficient background information on the students to ensure that they have the academic credentials required for their program. Students are eligible for participation in the Exchange Visitor Program if at any time during their educational program in the United States:

(1) They or their program are financed directly or indirectly by:

(i) The United States Government;

(ii) The government of the student's home country; or

(iii) An international organization of which the United States is a member by treaty or statute;

(2) The programs are carried out pursuant to an agreement between the United States Government and a foreign government;

(3) The program is carried out pursuant to written agreement between:

(i) American and foreign educational institutions;

(ii) An American educational institution and a foreign government; or

(iii) A state or local government in the United States and a foreign government;

(4) The exchange visitors are supported substantially by funding from any source other than personal or family funds, or

(5) The exchange visitor is participating in a student internship program as described in paragraph (i) of this section.

(d) Admissions requirement. In addition to satisfying the requirements of § 62.10(a), sponsors must ensure that the exchange visitor student has been admitted to, or accepted for a student internship program offered by, the post-secondary accredited educational institution(s) listed on the Form DS-2019 before issuing the Form.

(e) Full course of study requirement. Exchange visitor students, other than student interns described in paragraph (i), must pursue a full course of study at a post-secondary accredited educational institution in the United States as defined in § 62.2, except under the following circumstances:

(1) Vacation. During official school breaks and summer vacations if the student is eligible and intends to register for the next term. A student attending a school on a quarter or trimester calendar may be permitted to take the annual vacation during any one of the quarters or trimesters instead of during the summer.

(2) Medical illness. If the student is compelled to reduce or interrupt a full course of study due to an illness or medical condition and the student presents to the responsible officer a written statement from a physician requiring or recommending an interruption or reduction in studies.

(3) Bona fide academic reason. If the student is compelled to pursue less than a full course of study for a term and the student presents to the responsible officer a written statement from the academic dean or advisor recommending the student to reduce his or her academic load to less than a full course of study due to an academic reason.

(4) Non-degree program. If the student is engaged full time in a prescribed course of study in a non-degree program of up to 24 months duration conducted by a post-secondary accredited educational institution.

(5) Academic training. If the student is participating in authorized academic training in accordance with paragraph (f) of this section.

(6) Final term. If the student needs less than a full course of study to complete the academic requirements in his or her final term.

(f) Academic training—(1) Purpose. A student, other than a student intern described in paragraph (i) of this section, may participate in academic training programs during his or her studies, without wages or other remuneration, with the approval of the academic dean or advisor and the responsible officer.

(2) Conditions. A student, other than a student intern described in paragraph (i) of this section, may be authorized to participate in academic training programs for wages or other remuneration:

(i) During his or her studies; or

(ii) Commencing not later than thirty (30) days after completion of his or her studies, if the criteria, time limitations, procedures, and evaluations listed below in paragraphs (f)(3) to (6) are satisfied:

(3) Criteria: (i) The student is primarily in the United States to study rather than engage in academic training;

(ii) The student is participating in academic training that is directly related to his or her major field of study at the post-secondary accredited educational institution listed on his or her Form DS-2019;

(iii) The student is in good academic standing with the post-secondary accredited educational institution; and

(iv) The student receives written approval in advance from the responsible officer for the duration and type of academic training.

(4) Time limitations. The exchange visitor is authorized to participate in academic training for the length of time necessary to complete the goals and objectives of the training, provided that the amount of time for academic training:

(i) Is approved by the academic dean or advisor and approved by the responsible officer;

(ii) For undergraduate and pre-doctoral training, does not exceed eighteen (18) months, inclusive of any prior academic training in the United States, or the period of full course of study in the United States, whichever is less; except, additional time for academic training is allowed to the extent necessary for the exchange visitor to satisfy the mandatory requirements of his or her degree program in the United States;

(iii) For post-doctoral training, does not exceed a total of thirty-six (36) months, inclusive of any prior academic training in the United States as an exchange visitor, or the period of the full course of study in the United States, whichever is less.

(5) Procedures. To obtain authorization to engage in academic training:

(i) The exchange visitor must present to the responsible officer a letter of recommendation from the student's academic dean or advisor setting forth:

(A) The goals and objectives of the specific academic training program;

(B) A description of the academic training program, including its location, the name and address of the training supervisor, number of hours per week, and dates of the training;

(C) How the academic training relates to the student's major field of study; and

(D) Why it is an integral or critical part of the academic program of the exchange visitor student.

(ii) The responsible officer must:

(A) Determine if and to what extent the student has previously participated in academic training as an exchange visitor student, in order to ensure the student does not exceed the period permitted in paragraph (f) of this section;

(B) Review the letter of recommendation required in paragraph (f)(5)(i) of this section; and

(C) Make a written determination of whether the academic training currently being requested is warranted and the criteria and time limitations set forth in paragraph (f)(3) and (4) of this section are satisfied.

(6) Evaluation requirements. The sponsor must evaluate the effectiveness and appropriateness of the academic training in achieving the stated goals and objectives in order to ensure the quality of the academic training program.

(g) Student employment. Exchange visitor students, other than student interns described in paragraph (i) of this section, may engage in part-time employment when the following criteria and conditions are satisfied.

(1) The student employment:

(i) Is pursuant to the terms of a scholarship, fellowship, or assistantship;

(ii) Occurs on the premises of the post-secondary accredited educational institution the visitor is authorized to attend; or

(iii) Occurs off-campus when necessary because of serious, urgent, and unforeseen economic circumstances which have arisen since acquiring exchange visitor status.

(2) Exchange visitor students may engage in employment as provided in paragraph (g)(1) of this section if the:

(i) Student is in good academic standing at the post-secondary accredited educational institution;

(ii) Student continues to engage in a full course of study, except for official school breaks and the student's annual vacation;

(iii) Employment totals no more than 20 hours per week, except during official school breaks and the student's annual vacation; and

(iv) The responsible officer has approved the specific employment in advance and in writing. Such approval may be valid up to twelve months, but is automatically withdrawn if the student's program is transferred or terminated.

(h) Duration of participation—(1) Degree students. Exchange visitor students who are in degree programs may be authorized to participate in the Exchange Visitor Program as long as they are either:

(i) Studying at the post-secondary accredited educational institution listed on their Form DS-2019 and are:

(A) Pursuing a full course of study as set forth in paragraph (e) of this section, and

(B) Maintaining satisfactory advancement towards the completion of their academic program; or

(ii) Participating in an authorized academic training program as permitted in paragraph (f) of this section.

(2) Non-degree students. Exchange visitor students who are in non-degree programs may be authorized to participate in the Exchange Visitor Program for up to 24 months. Such students must be:

(i) Studying at the post-secondary accredited educational institution listed on their Form DS-2019 and are:

(A) Participating full-time in a prescribed course of study; and

(B) Maintaining satisfactory advancement towards the completion of their academic program; or

(ii) Participating in an authorized academic training program as permitted in paragraph (f) of this section;

(3) Student Interns. Exchange visitor student interns participating in a student internship program may be authorized to participate in the Exchange Visitor Program for up to 12 months for each degree/major as permitted in paragraph (i) of this section as long as they are:

(i) Engaged full-time in a student internship program sponsored by the post-secondary accredited educational institution which issued Form DS-2019; and

(ii) Maintains satisfactory advancement towards the completion of their student internship program.

(i) Student Interns. The student intern is a foreign national enrolled in an accredited post-secondary educational institution outside the United States and is participating in a student internship program that will fulfill the educational objectives for their current degree program at their home institution, and meets the following requirements:

(1) Criteria. (i) In addition to satisfying the general requirements set forth in § 62.10(a), sponsors must ensure that student interns have verifiable English language skills sufficient to function on a day-to-day basis in their training environment. English language proficiency must be verified by a recognized English language test, by signed documentation from an academic institution or English language school, or through an interview conducted by the sponsor or a third party in-person, by videoconference, or by web camera.

(ii) The student intern is primarily in the United States to engage in a student internship program rather than to engage in employment or provide services to an employer;

(iii) The student intern has been accepted into a student internship program at the post-secondary accredited educational institution listed on his or her Form DS-2019;

(iv) The student intern is in good academic standing with the post-secondary educational institution in which he or she is enrolled outside the United States; and

(v) The student intern will return to the academic program in the educational institution abroad after completion of the student internship program to fulfill a degree requirement.

(2) Program requirements. In addition to the requirements set forth in Subpart A, sponsors must ensure that:

(i) They do not issue Forms DS-2019 to potential participants in student internship programs until they secure placements for student interns and complete and secure requisite signatures on Form DS-7002 (T/IPP);

(ii) Student interns have sufficient finances to support themselves and their dependents for their entire stay in the United States, including housing and living expenses; and

(iii) The student internship program exposes participants to American techniques, methodologies, and technology and expands upon the participants' existing knowledge and skills. Programs must not duplicate the student intern's prior experience received previously.

(3) Obligations of Student Internship Program Sponsors. (i) Sponsors designated by the Department to administer student internship programs must:

(A) Ensure that the student internship programs are full-time (minimum of 32 hours a week); and

(B) Ensure that any host organizations and third parties involved in the recruitment, selection, screening, placement, orientation, evaluation for, or the provision of student internship programs are sufficiently educated on the goals, objectives, and regulations of the Exchange Visitor Program and adhere to all regulations set forth in this Part as well as all additional terms and conditions governing Exchange Visitor Program administration that the Department may from time to time impose.

(ii) Sponsors must ensure that they or any host organization acting on the sponsor's behalf:

(A) Have sufficient resources, plant, equipment, and trained personnel available to provide the specified student internship program;

(B) Do not displace full- or part-time or temporary or permanent American workers or serve to fill a labor need and ensure that the positions that student interns fill exist solely to assist student interns in achieving the objectives of their participation in student internship programs; and

(C) Certify that student internship programs in the field of agriculture meet all the requirements of the Fair Labor Standards Act, as amended (29 U.S.C. 201 et seq.) and the Migrant and Seasonal Agricultural Worker Protection Act, as amended (29 U.S.C. 1801 et seq.).

(iii) Screening and Vetting Host Organizations. Sponsors must adequately screen all potential host organizations at which a student intern will be placed by obtaining the following information:

(A) The Dun & Bradstreet identification number (unless the host organization is an academic institution, government entity, or family farm);

(B) Employer Identification Number (EIN) used for tax purposes;

(C) Verification of telephone number, address, and professional activities via advertising, brochures, Web site, and/or feedback from prior participants; and

(D) Verification of Workman's Compensation Insurance Policy; and

(iv) Site Visits. Sponsors must conduct site visits of host organizations that have not previously participated successfully in the sponsor's student internship programs and that have fewer than 25 employees or less than three million dollars in annual revenue. Placements at academic institutions or at Federal, State, or local government offices are specifically excluded from this requirement. The purpose of the site visits is for the sponsors to ensure that host organizations possess and maintain the ability and resources to provide structured and guided work-based learning experiences according to the individualized T/IPPs and that host organizations understand and meet their obligations set forth in this part.

(4) Use of third parties. Sponsors may engage third parties (including, but not limited to host organizations, partners, local businesses, governmental entities, academic institutions, and other foreign or domestic agents) to assist them in the conduct of their designated student internship programs. Such third parties must have an executed written agreement with the sponsor to act on behalf of the sponsor in the conduct of the sponsor's program. This agreement must outline the full relationship between the sponsor and third party on all matters involving the administration of their exchange visitor program. A sponsor's use of a third party does not relieve the sponsor of its obligations to comply with and to ensure third party compliance with Exchange Visitor Program regulations. Any failure by any third party to comply with the regulations set forth in this Part or with any additional terms and conditions governing Exchange Visitor Program administration that the Department may from time to time impose will be imputed to the sponsor.

(5) Evaluation requirements. In order to ensure the quality of student internship programs, sponsors must develop procedures for evaluating all student interns. All required evaluations must be completed prior to the conclusion of a student internship program, and the student interns and their immediate supervisors must sign the evaluation forms. For programs exceeding six months' duration, at a minimum, midpoint and concluding evaluations are required. For programs of six months or less, at a minimum, concluding evaluations are required. Sponsors must retain student intern evaluations (electronic or hard copy) for a period of at least three years following the completion of each student internship program.

(6) Employment, wages, or remuneration. A student intern is permitted to engage in full-time employment during the student internship program as outlined on their T/IPP, with or without wages or other compensation. Employment is not required for participation in the program. In those cases where the student intern is employed, all employment activities must be approved by the home institution's dean or academic advisor, and the responsible officer.

(7) Training/Internship Placement Plan (Form DS-7002). (i) Sponsors must fully complete and obtain requisite signatures for a Form DS-7002 for each student intern before issuing a Form DS-2019. Sponsors must provide each signatory an executed copy of the Form DS-7002. Upon request, student interns must present their fully executed Form DS-7002 to a Consular Official during their visa interview.

(ii) To further distinguish between work-based learning for student interns, which is permitted, and ordinary employment or unskilled labor which are not, all T/IPPs must:

(A) State the specific goals and objectives of the student internship program (for each phase or component, if applicable);

(B) Detail the knowledge, skills, or techniques to be imparted to the student intern (for each phase or component, if applicable); and

(C) Describe the methods of performance evaluation and the frequency of supervision (for each phase or component, if applicable).

(8) Program Exclusions. Sponsors designated by the Department to administer student internship programs must not:

(i) Place student interns in unskilled or casual labor positions, in positions that require or involve child care or elder care, positions in the field of aviation, or in clinical or any other kind of work that involves patient care or contact, including any work that would require student interns to provide therapy, medication, or other clinical or medical care (e.g., sports or physical therapy, psychological counseling, nursing, dentistry, veterinary medicine, social work, speech therapy, or early childhood education);

(ii) Place student interns in positions, occupations, or businesses that could bring the Exchange Visitor Program or the Department into notoriety or disrepute; or

(iii) Engage or otherwise cooperate or contract with a staffing/employment agency to recruit, screen, orient, place, evaluate, or train student interns, or in any other way involve such agencies in an Exchange Visitor Program student internship program.

(iv) Designated sponsors must ensure that the duties of student interns as outlined in the T/IPPs will not involve more than 20 percent clerical work, and that all tasks assigned to student interns are necessary for the completion of student internship program assignments.

(v) Sponsors must also ensure that all “Hospitality and Tourism” student internship programs of six months or longer contain at least three departmental or functional rotations.

Dated: May 18, 2007.
Stanley S. Colvin,
Director, Office of Exchange Coordination and Designation, Bureau of Educational and Cultural Affairs, Department of State.

[FR Doc. E7-10606 Filed 6-4-07; 8:45 am]

BILLING CODE 4710-05-P